DEPARTMENT OF HEALTH AND HUMAN SERVICES

Administration for Children and Families

Proposed Information Collection Activity

AGENCY: Office of Planning, Research, and Evaluation; ACF; HHS.

ACTION: Request for public comment.

Title: Head Start Child and Family Experiences Survey (FACES) (OMB #0970-0151).

SUMMARY: The Office of Planning, Research, and Evaluation (OPRE), Administration for Children and Families (ACF), U.S. Department of Health and Human Services (HHS), is proposing to collect data for a new round of the Head Start Family and Child Experiences Survey (FACES).

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

SUPPLEMENTARY INFORMATION: Similar to FACES 2014-2018, in 2019, two parallel studies will commence. FACES 2019 focuses on Head Start Regions I through X (which are geographically based); AI/AN (American Indian and Alaska Native) FACES 2019 focuses on Region XI (which funds Head Start programs that serve federally recognized American Indian and Alaska Native tribes). Both studies will provide data on a set of key indicators for Head Start programs. In fall 2019 and spring 2020, FACES will assess the school readiness skills of 2,400 Head Start children in Regions I-X (FACES 2019) and 800 children in Region XI (AI/AN FACES 2019), survey their parents, and ask their Head Start teachers to rate children's social and emotional skills. This sample will be drawn from 60 programs in Regions I-X and 22 programs in Region XI. In spring 2020, classroom observations of sampled programs will occur. In Regions I-X, the number of programs will increase from the 60 that are used to collect data on children's school readiness outcomes to 180 for the purpose of conducting observations in 720 Head Start classrooms. In Region XI, the program sample will remain at 22, and approximately 80 Head Start classroom observations will take place. Program director, center director, and teacher surveys will also be conducted in spring 2020 in Regions I-XI. In spring 2022, program level data collection will be repeated in Regions I-X only. FACES 2019 also features a “Core Plus” design, with the above activities reflecting the Core data, with the potential of “Plus” studies to inform emerging programmatic questions. If any Plus studies are conducted, they will be conducted within the Core sample and will be included in a future Federal Register notice.

Previous Federal Register notices provided the opportunity for public comment on the proposed Head Start program recruitment and center selection process (FR 82, pg. 48819 10/20/2017; FR 83, pg. 7480 02/21/2018). This notice describes the planned data collection activities for the FACES 2019 and AI/AN FACES 2019 data collection. Data collection activities include classroom and child sampling information collection, direct child assessments, parent surveys, teacher child reports, and staff surveys.

Sampling of children and classrooms for FACES starts with site visits to 157 Head Start centers (120 for FACES 2019 and 37 for AI/AN FACES 2019) in fall 2019. Field enrollment specialists (FES) will request a list of all Head Start-funded classrooms from Head Start staffNext, for each selected classroom, the FES will request enrollment information for each child enrolled. Data collection will then start with site visits in fall 2019 to 82 Head Start programs (60 for FACES 2019 and 22 for AI/AN FACES 2019) to directly assess the school readiness skills of 3,200 children (2,400 for FACES 2019 and 800 for AI/AN FACES 2019) sampled for FACES and whose parents agree to participate. Parents of sampled children will complete surveys on the Web or by telephone about their children and family background. Head Start teachers will rate each sampled child (approximately 10 children per classroom) using the Web or paper- and pencil forms. These activities will occur a second time in spring 2020. When the FACES 2019 program sample size increases to 180 programs in the spring, the methods of data collection for this phase will feature classroom sampling and site visitors conducting observations of the quality of classrooms. Head Start program directors, center directors, and teachers will complete surveys about themselves and the services and instruction at Head Start. The purpose of the FACES data collection is to support the 2007 reauthorization of the Head Start program (Pub. L. 110-134), which calls for periodic assessments of Head Start's quality and effectiveness.

Respondents: Head Start children, parents of Head Start children, and Head Start teachers and Head Start staff.

Annual Burden Estimates
Instrument | Total number of respondents | Annual number of respondents | Number of responses per respondent | Average burden hours per response | Annual burden hours
FACES 2019 Classroom sampling form from Head Start staff | 360 | 120 | 1 | 0.17 | 20
FACES 2019 Child roster form from Head Start staff | 120 | 40 | 1 | 0.33 | 13
FACES 2019 Parent consent form | 2,400 | 800 | 1 | 0.17 | 136
FACES 2019 Head Start parent survey | 2,400 | 800 | 2 | 0.42 | 672
FACES 2019 Head Start child assessment | 2,400 | 800 | 2 | 0.75 | 1,200
FACES 2019 Head Start teacher child report | 240 | 80 | 20 | 0.17 | 272
FACES 2019 Head Start teacher survey | 720 | 240 | 1 | 0.50 | 120
FACES 2019 Head Start program director survey | 180 | 60 | 1 | 0.50 | 30
FACES 2019 Head Start center director survey | 360 | 120 | 1 | 0.50 | 60
AI/AN FACES 2019 Classroom sampling form from Head Start staff | 37 | 13 | 1 | 0.17 | 2
AI/AN FACES 2019 Child roster form from Head Start staff | 37 | 13 | 1 | 0.33 | 4
AI/AN FACES 2019 Parent consent form | 800 | 267 | 1 | 0.17 | 45
AI/AN FACES 2019 Head Start parent survey | 800 | 267 | 2 | 0.50 | 267
AI/AN FACES 2019 Head Start child assessment | 800 | 267 | 2 | 0.75 | 401
AI/AN FACES 2019 Head Start teacher child report | 80 | 27 | 20 | 0.17 | 92
AI/AN FACES 2019 Head Start teacher survey | 80 | 27 | 1 | 0.58 | 16
AI/AN FACES 2019 Head Start program director survey | 22 | 8 | 1 | 0.33 | 3
AI/AN FACES 2019 Head Start center director survey | 37 | 13 | 1 | 0.33 | 4

Estimated Total Annual Burden Hours: 3,357.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

(Authority: Section 640(a)(2)(D) and section 649 of the Improving Head Start for School Readiness Act of 2007)

Emily B. Jabbour,
ACF/OPRE Certifying Officer.

[FR Doc. 2018-18333 Filed 8-23-18; 8:45 am]

BILLING CODE 4184-22-P